Proclamation 8713 of September 15, 2011

National POW/MIA Recognition Day, 2011

By the President of the United States of America

A Proclamation

In every conflict in which our Nation has been involved, selfless American service members have sacrificed their lives for the sake of our country and its principles. Too many have never come home, or have endured unthinkable hardship as prisoners of war. On this day, we echo the creed inscribed on the black and white banners that fly in honor of America’s Prisoners of War and Missing in Action, and we renew our promise to our heroes, that “You Are Not Forgotten.”

We will never give up the search for those who are held as prisoners of war or have gone missing under our country’s flag. We honor their sacrifice, and we must care for their families and pursue the fullest possible accounting for all missing members of our Armed Forces. Together, we must serve our Nation’s patriots as well as they have served us—by supporting them when they come home, and by carrying on the legacy of those who do not. This is a promise we keep for our fallen, for our veterans past and present, and for all those whose loved ones have not returned from the battlefield.

On September 16, 2011, the stark black and white banner symbolizing America’s Missing in Action and Prisoners of War will be flown over the White House, the United States Capitol, the Departments of State, Defense, and Veterans Affairs, the Selective Service System Headquarters, the World War II Memorial, the Korean War Veterans Memorial, the Vietnam Veterans Memorial, United States post offices, national cemeteries, and other locations across our country. We raise this flag as a solemn reminder of our obligation to always remember the sacrifices made to defend our Nation.

NOW, THEREFORE, I, BARACK OBAMA, President of the United States of America, by virtue of the authority vested in me by the Constitution and the laws of the United States, do hereby proclaim September 16, 2011, as National POW/MIA Recognition Day, and I urge all Americans to observe this day of honor and remembrance with appropriate ceremonies and activities.

IN WITNESS WHEREOF, I have hereunto set my hand this fifteenth day of September, in the year of our Lord two thousand eleven, and of the Independence of the United States of America the two hundred and thirty-sixth.

[FR Doc. 2011-24333

Filed 9-19-11; 11:15 am]

Billing code 3195-W1-P